DEPARTMENT OF ENERGY

Federal Energy Regulatory Commission

[Docket No. CP22-493-000]

Tennessee Gas Pipeline Company, LLC; Notice of Availability of the Draft Environmental Impact Statement for the Proposed Cumberland Project

The staff of the Federal Energy Regulatory Commission (FERC or Commission) has prepared a draft Environmental Impact Statement (EIS) for the Cumberland Project (Project), proposed by Tennessee Gas Pipeline Company, LLC (Tennessee) in the above-referenced docket. Tennessee requests a Certificate of Public Convenience and Necessity to construct, operate, and maintain certain natural gas transmission pipeline and facilities in Dickson, Houston, and Stewart Counties, Tennessee. The Project purpose is to provide up to 245,040 dekatherms per day of new firm transportation service to the Tennessee Valley Authority's (TVA) Cumberland Natural Gas Combined Cycle Power Plant.

The draft EIS assesses the potential environmental effects of the construction and operation of the Project in accordance with the requirements of the National Environmental Policy Act (NEPA). The FERC staff concludes that approval of the proposed Project, with the mitigation measures recommended in the EIS, would result in some adverse environmental impacts. Most of these impacts would be temporary and occur during construction (e.g., impacts on wetlands, land use, traffic, and noise). Except for climate change impacts that are not characterized in the EIS as significant or insignificant, Commission staff conclude that project effects would not be significant. As part of the analysis, Commission staff developed specific mitigation measures (included in the draft EIS as recommendations). Staff recommend that these mitigation measures be attached as conditions to any authorization issued by the Commission.

The U.S. Army Corps of Engineers and the U.S. Environmental Protection Agency participated as cooperating agencies in the preparation of the EIS. Cooperating agencies have jurisdiction by law or special expertise with respect to resources potentially affected by a proposal and participate in the NEPA analysis. Although both agencies provided input to the conclusions and recommendations presented in the draft EIS, each agency may present its own conclusions and recommendations in any applicable Records of Decision or other documentation for the Project.

The draft EIS addresses the potential environmental effects of the construction and operation of the following Project facilities, all in the state of Tennessee:

• Cumberland Pipeline: Construction of approximately 32 miles of new 30-inch-diameter natural gas pipeline, which would connect at Tennessee's existing Line 100-3 and Line 100-4. The Cumberland Pipeline would be located in Dickson, Houston, and Stewart Counties.

• Pressure Regulation Station: Construction of two new bi-directional back pressure regulation facilities on Line 100-3 and Line 100-4, at milepost 0.0 of the proposed new Cumberland Pipeline in Dickson County.

• Cumberland Meter Station: Construction of a new meter station at the terminus of the Cumberland Pipeline, located within TVA's property in Stewart County.

• Launcher and Receiver: Construction of in-line inspection traps, for in-line inspection tools at each end of the Cumberland Pipeline.

• Mainline Valves: Construction of three new mainline valves. One would be installed at an intermediate location along the Cumberland Pipeline, and the remaining two would be on Tennessee's Line 100-3 and Line 100-4 within the new Pressure Regulation Station.

The Commission mailed a copy of the Notice of Availability of the Draft Environmental Impact Statement for the Proposed Cumberland Project to federal, state, and local government representatives and agencies; elected officials; environmental and public interest groups; Native American Tribes; potentially affected landowners and other interested individuals and groups; and newspapers and libraries in the Project area. The draft EIS is only available in electronic format. It may be viewed and downloaded from the FERC website (https://ferc.gov/), on the natural gas environmental documents page (https://www.ferc.gov/industries-data/natural-gas/environmental-overview/environmental-documents-2023). In addition, the draft EIS may be accessed using the eLibrary link on the FERC website. Click on the eLibrary link (https://elibrary.ferc.gov/eLibrary/search) select “General Search” and enter the docket number in the “Docket Number” field, excluding the last three digits (i.e., CP22-493). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on the draft EIS' disclosure and discussion of potential environmental effects, measures to avoid or lessen environmental impacts, and the completeness of the submitted alternatives, information and analyses. To ensure consideration of your comments on the proposal in the final EIS, it is important that the Commission receive your comments on or before 5:00 p.m. Eastern Time on March 27, 2023.

For your convenience, there are four methods you can use to submit your comments to the Commission. The Commission will provide equal consideration to all comments received, whether filed in written form or provided orally. The Commission encourages electronic filing of comments and has staff available to assist you at (866) 208-3676 or FercOnlineSupport@ferc.gov. Please carefully follow these instructions so that your comments are properly recorded.

(1) You can file your comments electronically using the eComment feature on the Commission's website (https://ferc.gov/) under the link to FERC Online. This is an easy method for submitting brief, text-only comments on a project;

(2) You can file your comments electronically by using the eFiling feature on the Commission's website (https://ferc.gov/) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the Project docket number (CP22-493-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

(4) In lieu of sending written or electronic comments, the Commission invites you to attend one of the public comment sessions its staff will conduct to receive comments on the draft EIS, scheduled as follows:

Date | Time | Location
2/21/2023 | 5:00-8:00 p.m. Central Standard Time | Events on Main, 105 S Main Street, Dickson, TN 37055, (615) 202-3453.
2/22/2023 | 5:00-8:00 p.m. Central Standard Time | Cumberland City Fire Hall, 121 Main Street, Cumberland City, TN 37050, (931) 627-4610.

The primary goal of these comment sessions is to have you identify the specific environmental issues and concerns regarding the draft EIS. Individual oral comments will be taken on a one-on-one basis with a court reporter. This format is designed to receive the maximum amount of oral comments, in a convenient way during the timeframe allotted.

Each comment session is scheduled from 5:00 p.m. to 8:00 p.m. Central Standard Time. You may arrive at any time after 5:00 p.m. There will not be a formal presentation by Commission staff when the session opens. If you wish to speak, the Commission staff will hand out numbers in the order of your arrival. Comments will be taken until 8:00 p.m. However, if no additional numbers have been handed out and all individuals who wish to provide comments have had an opportunity to do so, staff may conclude the session at 7:30 p.m. Please see attachment 1 for additional information on the session format and conduct.¹

¹ The attachment referenced in this notice will not appear in the Federal Register. A copy of the attachment was sent to all those receiving this notice in the mail and are available at www.ferc.gov using the link called “eLibrary” or from the Commission's Public Reference Room, 888 First Street NE, Washington, DC 20426, or call (202) 502-8371.

Your oral comments will be recorded by the court reporter (with FERC staff or representative present) and become part of the public record for this proceeding. Transcripts will be publicly available on FERC's eLibrary system (see page 2 for instructions on using eLibrary). If a significant number of people are interested in providing oral comments in the one-on-one settings, a time limit of 5 minutes may be implemented for each commentor. Although there will not be a formal presentation, Commission staff will be available throughout the comment session to answer your questions about the environmental review process.

It is important to note that the Commission provides equal consideration to all comments received, whether filed in written form or provided at a comment session.

Any person seeking to become a party to the proceeding must file a motion to intervene pursuant to Rule 214 of the Commission's Rules of Practice and Procedures (18 CFR 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in the specific dockets. This can reduce the amount of time you spend researching proceedings by automatically providing you with notification of these filings, document summaries, and direct links to the documents. Go to https://www.ferc.gov/ferc-online/overview to register for eSubscription.

Dated: February 3, 2023.
Kimberly D. Bose,
Secretary.

[FR Doc. 2023-02748 Filed 2-8-23; 8:45 am]

BILLING CODE 6717-01-P